SECURITIES AND EXCHANGE COMMISSION

Submission for OMB Review; Comment Request

Upon written request, copies available from: Securities and Exchange Commission, Office of Investor Education and Advocacy, Washington, DC 20549-0213.

XBRL Voluntary Program Questionnaire.

OMB Control No. 3235-NEW; SEC File No. 270-577.

Notice is hereby given that, pursuant to the Paperwork Reduction Act of 1995 (44 U.S.C. 3501 et seq.), the Securities and Exchange Commission (“Commission”) has submitted to the Office of Management and Budget a request to approve the collection of information discussed below.

The title of the questionnaire is “XBRL Voluntary Program Questionnaire.”

The XBRL Voluntary Program Questionnaire consists mainly of questions based on the respondent's experience with submitting eXtensible Business Reporting Language (“XBRL”) tagged data to the Commission on a voluntary basis as a supplemental exhibit to specified filings under the Securities Exchange Act of 1934 (15 U.S.C. 78a et seq.) and Investment Company Act of 1940 (15 U.S.C. 80a-1 et seq.).

The Commission needs the information to learn about the voluntary program from the participant perspective. Responses to the questionnaire are voluntary and will be publicly available. The Commission plans to use the information to help it assess the feasibility and desirability of using tagged data on a more widespread and, possibly, mandated, basis in the future. In addition, the information may also be used by the Commission or its staff in connection with public analyses of the responses. The likely respondents to the questionnaire are the participants in the voluntary program.

We estimate that each of 80 respondents will respond once and take 4 hours per response for a total reporting burden of 320 hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to David_Rostker@omb.eop.gov; and (ii) R. Corey Booth, Director/Chief Information Officer, Securities and Exchange Commission, c/o Shirley Martinson, 6432 General Green Way, Alexandria, Virginia 22312; or send an e-mail to: PRA_Mailbox@sec.gov. Comments must be submitted to OMB within 30 days of this notice.

Dated: August 9, 2007.
Florence E. Harmon,
Deputy Secretary.

[FR Doc. E7-16091 Filed 8-15-07; 8:45 am]

BILLING CODE 8010-01-P